DEPARTMENT OF HEALTH AND HUMAN SERVICES

Health Resources and Services Administration

Agency Information Collection Activities: Proposed Collection: Public Comment Request Information Collection Request Title: Small Rural Hospital Transition Project (SRHT), OMB No. 0906-0026—Extension

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this Information Collection Request must be received no later than August 20, 2019.

ADDRESSES: Submit your comments to paperwork@hrsa.gov or mail the HRSA Information Collection Clearance Officer, Room 14N136B, 5600 Fishers Lane, Rockville, Maryland 20857.

FOR FURTHER INFORMATION CONTACT: To request more information on the proposed project or to obtain a copy of the data collection plans and draft instruments, email paperwork@hrsa.gov or call Lisa Wright-Solomon, the HRSA Information Collection Clearance Officer at (301) 443-1984.

SUPPLEMENTARY INFORMATION: When submitting comments or requesting information, please include the information request collection title for reference.

Information Collection Request Title: Small Rural Hospital Transition Project (SRHT), OMB No. 0906-0026—Extension.

Abstract: Under Section 330A of the Public Health Service Act (42 U.S.C. 254c), the Federal Office of Rural Health Policy (FORHP) funds grant programs supporting expanding access to, coordinating, restraining the cost of, and improving the quality of essential health care services in rural and frontier communities. Small rural hospitals are facing many challenges in the new health care environment including the concurrent need to better measure and account for quality of care in all settings, improve transitions of care as patients move from one care setting to another, the evolution of new payment approaches such as value-based purchasing, and new approaches to care delivery such as accountable care organizations (ACO) and patient-centered medical homes. Success in this new environment will require bridging the gaps between the current system and the newly emerging system of healthcare delivery and payment. Because little is known about how these new models might impact rural communities, there is a need to help hospitals understand and consider those factors that would make them logical participants in health care systems that focus on quality, rather than the quantity of care provided to patients. The Small Rural Hospital Transition (SRHT), also funded by Section 330A, assists small rural hospitals facing these challenges. The purpose of the project is to provide on-site technical assistance to nine small rural hospitals residing in persistent poverty counties. Technical assistance is provided in the areas of: (1) Conducting financial assessments, (2) creating a quality-focused environment, (3) aligning services to community need, and (4) to the extent that financial and quality core areas have been stabilized, providing assistance to help recipients of technical assistance consider factors that would make them logical participants in health care systems that focus on value (e.g., ACOs, shared savings programs, and primary care medical homes).

Need and Proposed Use of the Information: This information collection request consists of two forms: The SRHT Online Application and the Assessment. The application form is designed to solicit information that will be scored and ranked to aid in the selection of nine small rural hospitals to receive on-site technical assistance. The assessment determines applicant capacity in specific key areas leading to performance excellence across the organization (e.g., leadership, strategic planning, operations, and processes).

Likely Respondents: The likely respondents are small rural hospitals located in a rural community. Hospitals must be (1) rural, as defined by FORHP and reside in a persistent poverty county or (2) reside in the rural census tract of a metro county (non-rural county) that is also a persistent poverty county and have 49 staffed beds or less as reported on the hospital's most recently filed Medicare Cost Report. Hospitals may be for-profit or not-for-profit.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total
SRHT Online Application | 30 | 1 | 30 | .50 | 15.0
Assessment: Performance Excellence for Rural Hospitals | 30 | 1 | 30 | .25 | 7.5
Total | * 30 |  | 60 |  | 22.5
* The same individuals complete the SRHT Online Application and the Assessment for a total of 30 respondents.

HRSA specifically requests comments on: (1) The necessity and utility of the proposed information collection for the proper performance of the agency's functions; (2) the accuracy of the estimated burden; (3) ways to enhance the quality, utility, and clarity of the information to be collected; and (4) the use of automated collection techniques or other forms of information technology to minimize the information collection burden.

Maria G. Button,
Director, Division of the Executive Secretariat.

[FR Doc. 2019-13195 Filed 6-20-19; 8:45 am]

BILLING CODE 4165-15-P